DEPARTMENT OF THE INTERIOR

National Park Service

[NPS-WASO-NAGPRA-NPS0035978; PPWOCRADN0-PCU00RP14.R50000]

Notice of Intent To Repatriate Cultural Items: Denver Museum of Nature & Science. Denver, CO

AGENCY: National Park Service, Interior.

ACTION: Notice.

SUMMARY: In accordance with the Native American Graves Protection and Repatriation Act (NAGPRA), the Denver Museum of Nature & Science intends to repatriate certain cultural items that meet both the definition of sacred objects and the definition of objects of cultural patrimony, and that have a cultural affiliation with the Indian Tribes or Native Hawaiian organizations in this notice. The cultural items were removed from the State of New York and Canada.

DATES: Repatriation of the cultural items in this notice may occur on or after July 10, 2023.

ADDRESSES: Chris Patrello, Curator of Anthropology, Denver Museum of Nature & Science, 2001 Colorado Blvd., Denver CO 80205, telephone (303) 370-6378, email chris.patrello@dmns.org.

SUPPLEMENTARY INFORMATION: This notice is published as part of the National Park Service's administrative responsibilities under NAGPRA. The determinations in this notice are the sole responsibility of the Denver Museum of Nature & Science. The National Park Service is not responsible for the determinations in this notice. Additional information on the determinations in this notice, including the results of consultation, can be found in the summary or related records held by the Denver Museum of Nature & Science.

Description

The 83 cultural items listed in this notice were removed from several locations in the State of New York and Ontario, Canada, beginning in 1965. Of this number, 79 cultural items were purchased by collectors Mary and Francis Crane, who donated their collection to the Denver Museum of Nature & Science (then the Denver Museum of Natural History) between 1968 and 1983. In 1965, the Cranes purchased from Gerald Fenstermaker eight Medicine Faces (AC.8544, AC.9717, AC.9722, AC.9724, AC.9727, AC.9728, AC.9729, AC.9742); two Corn Husk Faces (AC.9709, AC.9711); two Husk Face Figurines comprising a set (AC.9825A-B); three Medicine Face Figurines comprising a set (AC.9826A-C); nine Medicine Face Figurines comprising a set (AC.8554A-I); and 10 Medicine Face Figurines comprising a set (AC.11957A-J). These cultural items had been removed from various locations in the State of New York and Ontario, Canada. Between 1965 and 1967, the Cranes purchased from Howard B. Roloff three Corn Husk Faces (AC.8341, AC.8381 AC.9714); 25 Medicine Faces (AC.8375, AC.8379, AC.8390, AC.8391, AC.8444, AC.10284, AC.10285, AC.10319, AC.10330, AC.10333A-K, AC.8406A-E); 12 Medicine Face Figurines comprising a set (AC.8285A-L); and four Medicine Face Figurines comprising a set (AC.10328). These cultural items had been acquired from the Six Nations of the Grand River Reserve in Ontario, Canada. In 1969, the Cranes purchased a figurine wearing a Medicine Face from the Las Novedades Gallery in Taos, NM (AC.7684). The figurine is identified as Haudenosaunee.

In 1990, one Medicine Face (A1648.1) was transferred from the Museum's Education Collection to its Anthropology Collection. In 1999, during a NAGPRA consultation, representatives of the Haudenosaunee Confederacy suggested that this cultural item is a copy of an older mask made by Elon Webster, an Onondaga carver from the Tonawanda Reservation in New York.

In 1989, the Museum purchased three cultural items from William H. Hensler of Aurora, CO. Hensler had acquired these items from Iroqrafts, an arts and crafts store located on the Six Nations of the Grand River Reserve in Canada. The items are three Medicine Faces (A1633.1, A1633.2, and A1633.3). Museum records indicate that A1633.1 and A1633.2 were made by “He Keeps Ice” and are affiliated with the Cayuga Wolf clan, and that A1633.3 was made by “Across the River” and is affiliated with the Mohawk Turtle Clan.

The Denver Museum of Nature & Science acknowledges that the Haudenosaunee Confederacy predates the establishment of the geopolitical borders that separate its territories. Haudenosaunee communities maintain unbroken political, cultural, spiritual, and economic ties to their lands. The cultural items listed in this notice belong to the Confederacy, and as Keepers of the Central Fire of the Haudenosaunee, the Onondaga Nation is responsible for their care and protection. In a letter dated Feb. 21, 2022, Christine G. Abrams, Acting Chair of the Haudenosaunee Standing Committee on Burial Rules and Regulations, informed the Museum that the Standing Committee had approved the Onondaga Nation's request to repatriate Medicine Faces, Corn Husk Faces, and figurines wearing Medicine Faces or Corn Husk Faces designated as “Haudenosaunee,” “Iroquois,” and “Grand River,” as well as those with multiple affiliations.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, folkloric, geographical, historical, oral traditional, other relevant information, and expert opinion.

Determinations

Pursuant to NAGPRA and its implementing regulations, and after consultation with the appropriate Indian Tribes and Native Hawaiian organizations, the Denver Museum of Nature & Science has determined that:

• The 83 cultural items described above have ongoing historical traditional or cultural importance central to the Native American Group or culture itself, rather than property owned by an individual.

• The 83 cultural items described above are specific ceremonial objects needed by traditional Native American religious leaders for the practice of traditional Native American religions by their present-day adherents.

• There is a relationship of shared group identity that can be reasonably traced between the cultural items and the Onondaga Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 10, 2023. If competing requests for repatriation are received, the Denver Museum of Nature & Science must determine the most appropriate requestor prior to repatriation. Requests for joint repatriation of the cultural items are considered a single request and not competing requests. The Denver Museum of Nature & Science is responsible for sending a copy of this notice to the Indian Tribe identified in this notice.

Authority: Native American Graves Protection and Repatriation Act, 25 U.S.C. 3003, and the implementing regulations, 43 CFR 10.8, 10.10, and 10.14.

Dated: May 31, 2023.
Melanie O'Brien,
Manager, National NAGPRA Program.

[FR Doc. 2023-12283 Filed 6-7-23; 8:45 am]

BILLING CODE P